DEPARTMENT OF TRANSPORTATION

Federal Aviation Administration

14 CFR Part 39

[Docket No. 2002-NM-246-AD]

RIN 2120-AA64

Airworthiness Directives; Airbus Model A330, A340-200, and A340-300 Series Airplanes

AGENCY: Federal Aviation Administration, DOT.

ACTION: Supplemental notice of proposed rulemaking; reopening of comment period.

SUMMARY: This document revises an earlier proposed airworthiness directive (AD), applicable to certain Airbus Model A330, A340-200, and A340-300 series airplanes. That proposed AD would have required repetitive inspections for evidence of corrosion and sheared attachment bolts of the sensor struts at flap track 4 on the left and right sides of the airplane; related investigative and corrective actions as necessary; and a terminating action for the repetitive inspections, by requiring the eventual replacement of all sensor struts with new, improved sensor struts that are less sensitive to corrosion. This new action revises the proposed AD by changing the threshold for the initial inspection and reducing the compliance time for the terminating action. The actions specified by this new proposed AD are intended to prevent loss of the sensor strut function, resulting in the inability to detect flap drive disconnection at flap track stations 4 and 5, which could lead to separation of the outboard flap from the airplane, and consequent reduced controllability of the airplane. This action is intended to address the identified unsafe condition.

DATES: Comments must be received by September 27, 2004.

ADDRESSES: Submit comments in triplicate to the Federal Aviation Administration (FAA), Transport Airplane Directorate, ANM-114, Attention: Rules Docket No. 2002-NM-246-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-246-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-246-AD.” The postcard will be date stamped and returned to the commenter.

Availability of NPRMs

Any person may obtain a copy of this NPRM by submitting a request to the FAA, Transport Airplane Directorate, ANM-114, Attention: Rules Docket No. 2002-NM-246-AD, 1601 Lind Avenue, SW., Renton, Washington 98055-4056.

Discussion

A proposal to amend part 39 of the Federal Aviation Regulations (14 CFR part 39) to add an airworthiness directive (AD), applicable to certain Airbus Model A330, A340-200, and A340-300 series airplanes, was published as a notice of proposed rulemaking (NPRM) in the Federal Register on March 25, 2004 (69 FR 15268). That NPRM would have required repetitive inspections for evidence of corrosion and sheared attachment bolts of the sensor struts at flap track 4 on the left and right sides of the airplane; related investigative and corrective actions as necessary; and a terminating action for the repetitive inspections, by requiring the eventual replacement of all sensor struts with new, improved sensor struts that are less sensitive to corrosion. That NPRM was prompted by reports of corroded sensor struts and sheared attachment bolts at flap track 4 on Model A330 series airplanes. That condition, if not corrected, could result in loss of the sensor strut function, resulting in the inability to detect flap drive disconnection at flap track stations 4 and 5, which could lead to separation of the outboard flap from the airplane, and consequent reduced controllability of the airplane.

Comments

Due consideration has been given to the comments received from a single commenter in response to the original NPRM.

Request To Change Compliance Time for Inspection

The commenter notes that the French airworthiness directives mandate a compliance time prior to the accumulation of 18 months after the airplane's entry into service, or within 2,800 flight hours after the effective date of the French airworthiness directive, whichever is later. The original NPRM has a compliance time of within 2,800 flight hours or 18 months after the effective date of the AD, whichever is later. The commenter states that the compliance time in the original NPRM should be changed to match that of the French airworthiness directives.

We partially agree with the commenter's request to change the compliance time. Although the original NPRM referenced “18 months after the effective date of the AD” instead of “18 months in service,” this difference does not affect airplanes on the current U.S. Registry because all affected N-registered airplanes have already been in service for more than 18 months. However, this difference may affect airplanes imported into the United States, so the compliance time in paragraph (a) of this supplemental NPRM has been changed. Because “18 months after entry into service” may be interpreted differently by each operator, we use the following terminology: “Within 18 months since the date of issuance of the original Airworthiness Certificate or the date of issuance of the original Export Certificate of Airworthiness, whichever occurs first.” We find that this terminology is generally understood within the industry and records will always exist that establish these dates with certainty. We also added a new grace period of within 6 months after the effective date of the AD. As a result of these changes we have moved the compliance threshold and grace period for the actions required by paragraph (a) to subparagraphs (a)(1), (a)(2), and (a)(3) of this supplemental NPRM.

Request To Change Compliance Time for Terminating Action

The commenter notes that the French airworthiness directives specify that the terminating action must be completed before June 30, 2006. This date is 30 months after the effective dates of the parallel French airworthiness directives. The original NPRM has a compliance time of 42 months after the effective date of the AD, which will be in the year 2007. We infer that the commenter is requesting that the compliance time of the original NPRM be changed so it is the same as the parallel French airworthiness directives.

We partially agree with the commenter's request to revise the compliance time of the terminating action. The compliance time for this supplemental NPRM will be changed to 30 months after the effective date of this AD; however, this compliance time will still exceed the June 30, 2006, date specified in the French airworthiness directives.

Request To Change Applicability Statement

The commenter, the manufacturer, notes that the appearance of the applicability of the original NPRM is different from the parallel French airworthiness directives. The French airworthiness directives list the affected airplanes by specific model dash numbers (i.e., A330 aircraft, model -202, -223, -243, -301, etc.) and the original NPRM lists the affected airplanes as Airbus Model A330, A340-200, and A340-300 series airplanes. We infer that the commenter is requesting to change the applicability of the original NPRM so it is in the same format as the French airworthiness directives.

We do not agree with the commenter's request to change the applicability statement so it is in the same format as the French airworthiness directives. To avoid accidentally omitting airplane models that are listed on the U.S. type certificate data sheet (TCDS), we usually identify airplane series instead of individual model dash numbers in the applicability statement of our AD. The U.S. TCDS for the Model A330 includes Model A330-201, -202, -203, -223, -243, -301, -321, -322, -323, -341, -342, and -343 airplanes. The U.S. TCDS for the Model A340 includes Model A340-200 series, comprising A340-211, -212, and -213 airplanes; and Model A340-300 series, comprising A340-311, -312, and -313 airplanes. Although the applicability statement of this supplemental NPRM does not look the same as the applicability of the French airworthiness directives, the applicability of this supplemental NPRM includes the same specific model dash numbers and the same exceptions as the French airworthiness directives. No change to the supplemental NPRM is necessary in this regard.

Request To Include Reporting Information to the Manufacturer

The commenter states that the original NPRM does not require operators to report inspection results to the manufacturer. The commenter also states that if an operator reports a structural finding, the manufacturer will provide repair information based upon analysis performed on data collected from other reports, or will make a specific recommendation for that particular finding. This would avoid situations where repairs are made outside of the technical responsibility of the manufacturer. We infer that the commenter requests that the original NPRM include a requirement for operators to report inspection findings to the manufacturer.

We do not agree with the commenter's request to include a reporting requirement. The supplemental NPRM requires any cracking or deformation to be repaired prior to further flight in a manner approved by the FAA or the Direction Générale de l'Aviation Civile, the airworthiness authority for France (or its delegated agent). Operators do not need to report findings to the manufacturer in order to obtain repair information. No change to the supplemental NPRM is necessary.

Change to Supplemental NPRM

The applicability statement of this supplemental NPRM has been changed to delete the exclusion of airplanes that have accomplished certain Airbus service bulletins. The applicability of the original NPRM excluded airplanes that accomplished Airbus Service Bulletin A330-27-3092, dated February 14, 2003, in-service; or Airbus Service Bulletin A340-27-4098, dated February 14, 2004, in-service. We have not excluded those airplanes in the applicability of this supplemental NPRM. Paragraph (d) of this supplemental NPRM would require accomplishment of the actions specified in those service bulletins, unless the actions were accomplished previously. This would ensure that the actions are accomplished on all affected airplanes. Operators must continue to operate airplanes in the configuration required by this supplemental NPRM unless an alternative method of compliance is approved.

Conclusion

Since certain changes expand the scope of the originally proposed rule, the FAA has determined that it is necessary to reopen the comment period to provide additional opportunity for public comment.

Cost Impact

We estimate that approximately 9 Airbus Model A330 airplanes of U.S. registry would be affected by this proposed AD.

It would take approximately 1 work hour per airplane to accomplish the proposed repetitive inspections, at an average labor rate of $65 per work hour. Based on these figures, the cost impact of the proposed inspections on U.S. operators is estimated to be $585, or $65 per airplane, per inspection cycle.

If required, replacement of discrepant sensor struts and attachment bolts would take approximately 3 work hours, at an average labor rate of $65 per work hour. The cost for required parts would be nominal. Based on these figures, the cost impact of the proposed replacement of sensor struts would be $195 per airplane.

It would take approximately 2 work hours to accomplish the proposed installation of the new, improved sensor struts, at an average labor rate of $65 per work hour. The cost of required parts would be $8,400. Based on these figures, the cost impact of the proposed installation on U.S. operators is estimated to be $76,770, or $8,530 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it would take approximately 1 work hour per airplane to accomplish the inspection, at an average labor rate of $65 per work hour. Based on these figures, the cost impact of the proposed inspections for Model A340 operators would be $65 per airplane, per inspection cycle.

Should an Airbus Model A340 series airplane be imported and placed on the U.S. Register in the future and have affected sensor struts and attachment bolts replaced, it would take approximately 3 work hours, at an average labor rate of $65 per work hour. The cost for required parts would be nominal. Based on these figures, the cost impact of the replacement of sensor struts for Model A340 operators would be $195 per airplane.

Should an Airbus Model A340 series airplane be imported and placed on the U.S. Register in the future and have new, improved sensor struts installed, it would take approximately 2 work hours, at an average labor rate of $65 per work hour. The cost for required parts would be $8,400. Based on these figures, the cost impact of the proposed installation for Model A340 operators would be $8,530 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-246-AD.

Applicability: Model A330 series airplanes; and Model A340-200 and A340-300 series airplanes; certificated in any category; except those airplanes on which Airbus Modification 48579 was incorporated in production.

Compliance: Required as indicated, unless accomplished previously.

To prevent loss of the sensor strut function, resulting in the inability to detect flap drive disconnection at flap track stations 4 and 5, which could lead to separation of the outboard flap from the airplane, and consequent reduced controllability of the airplane, accomplish the following:

Inspection

(a) At the latest of the times specified in paragraphs (a)(1), (a)(2), and (a)(3) of this AD: Do an inspection, by applying hand force to the piston of the sensor struts and moving the sensor struts longitudinally, for evidence of corrosion in the sensor struts at flap track 4, on the left and right sides of the airplane, by doing all the applicable actions specified in the Accomplishment Instructions of Airbus Service Bulletin A330-27-3091, Revision 03 (for Model A330 series airplanes); or Service Bulletin A340-27-4097, Revision 03 (for Model A340-200 and -300 series airplanes); both dated January 16, 2004; as applicable. If the longitudinal travel range is 60.0mm (2.36 inches) or more: Repeat the inspection thereafter at intervals not to exceed 18 months, until the requirements of paragraph (d) of this AD are accomplished.

(1) Within 18 months since the date of issuance of the original Airworthiness Certificate or the date of issuance of the original Export Certificate of Airworthiness, whichever occurs first.

(2) Within 2,800 flight hours after the effective date of this AD.

(3) Within 6 months after the effective date of this AD.

Related Investigative and Corrective Actions

(b) If the result of the inspection required by paragraph (a) of this AD is a longitudinal travel range of less than 60.0mm (2.36 inches): Before further flight, remove all affected sensor struts, and measure the axial force of any affected sensor struts, by doing all of the applicable actions per the Accomplishment Instructions of Airbus Service Bulletin A330-27-3091, Revision 03 (for Model A330 series airplanes); or Service Bulletin A340-27-4097, Revision 03 (for Model A340-200 and -300 series airplanes); both dated January 16, 2004; as applicable.

(1) If the axial force F is less than or equal to 50 daN (112.41 lbf.): Clean and re-install the sensor struts per the Accomplishment Instructions of the applicable service bulletin. Repeat the inspection required by paragraph (a) of this AD thereafter at intervals not to exceed 18 months, until the requirements of paragraph (d) of this AD are accomplished.

(2) If the axial force F is more than 50 daN (112.41 lbf.): Before further flight, do a detailed inspection for cracking and/or deformation of the adjacent structure and attachment parts per the Accomplishment Instructions of the applicable service bulletin.

(i) If no cracking and/or deformation is found: Within 25 flight cycles after the inspection required by paragraph (b) of this AD, replace the sensor struts and attachment bolts per the Accomplishment Instructions of the applicable service bulletin. Repeat the inspection required by paragraph (a) of this AD thereafter at intervals not to exceed 18 months, until the requirements of paragraph (d) of this AD are accomplished.

(ii) If any cracking and/or deformation is found: Before further flight, repair any cracked or deformed structure and attachment parts per a method approved by either the Manager, International Branch, ANM-116, FAA, Transport Airplane Directorate; or the Direction Générale de l'Aviation Civile (or its delegated agent); and replace the sensor struts and attachment bolts per the Accomplishment Instructions of the applicable service bulletin. Repeat the inspection required by paragraph (a) of this AD thereafter at intervals not to exceed 18 months, until the requirements of paragraph (d) of this AD are accomplished.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Concurrent Requirements

(c) The actions required by paragraphs (a) and (b) of this AD must be done before or concurrently with the requirements of paragraph (d) of this AD. Replacement of any sensor strut with a sensor strut having part number (P/N) F5757492600000, during accomplishment of paragraph (b) of this AD, is acceptable for compliance with paragraph (d) of this AD, for that strut.

Terminating Action

(d) Within 30 months after the effective date of this AD: Replace all existing sensor struts with new, improved sensor struts having P/N F5757492600000 per the Accomplishment Instructions of Airbus Service Bulletin A330-27-3092 (for Model A330 series airplanes); or A340-27-4098 (for Model A340-200 and -300 series airplanes); both dated February 14, 2003; as applicable. Accomplishment of this replacement constitutes terminating action for the repetitive inspections required by paragraphs (a) and (b) of this AD.

Actions Done per Previous Issue of Service Bulletins

(e) Accomplishment of the specified actions before the effective date of this AD per Airbus Service Bulletin A330-27-3091, dated February 2, 2002, Revision 01, dated May 17, 2002, or Revision 02, dated September 5, 2002; or A340-27-4097, dated February 6, 2002, Revision 01, dated May 17, 2002, or Revision 02, dated September 5, 2002; as applicable; is considered acceptable for compliance with the applicable requirements of paragraphs (a) and (b) of this AD.

Submission of Information Not Required

(f) Although the service bulletins specify to send inspection results to the manufacturer, that action is not required by this AD.

Alternative Methods of Compliance

(g) In accordance with 14 CFR 39.19, the Manager, International Branch, ANM-116, FAA, Transport Airplane Directorate, is authorized to approve alternative methods of compliance for this AD.

Note 2: The subject of this AD is addressed in French airworthiness directives F-2003-425 and F-2003-426, both dated December 10, 2003.

Issued in Renton, Washington, on August 20, 2004.
Kevin M. Mullin,
Acting Manager, Transport Airplane Directorate, Aircraft Certification Service.

[FR Doc. 04-20016 Filed 9-1-04; 8:45 am]

BILLING CODE 4910-13-P